DEPARTMENT OF LABOR

Employment and Training Administration

[TA-W-50,472]

Sharon Tube Company, Sharon, PA; Notice of Negative Determination Regarding Application for Reconsideration

By application of March 3, 2003, the United Steelworkers of America, Local 1355, requested administrative reconsideration of the Department's negative determination regarding eligibility to apply for Trade Adjustment Assistance (TAA), applicable to workers and former workers of the subject firm. The denial notice was signed on January 15, 2003, and published in the Federal Register on February 6, 2003 (68 FR 6211).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Sharon Tube Company, Sharon, Pennsylvania was denied because criterion (2) was not met. Production of steel pipe and tubing at the subject plant increased from 2001 to 2002.

In the request for reconsideration, the union alleged that there was no production at the subject facility during the relevant period.

When contacted for clarification in regard to this allegation, the union official specified that there were two weeks in December of 2002 during which the plant was temporarily shutdown.

A temporary shut down has no bearing on the failure of the petitioning worker group to meet criterion (2) of the group eligibility requirements for trade adjustment assistance.

Conclusion

After review of the application and investigative findings, I conclude that there has been no error or misinterpretation of the law or of the facts which would justify reconsideration of the Department of Labor's prior decision. Accordingly, the application is denied.

Signed at Washington, DC, this 21st day of April, 2003.
Elliott S. Kushner,
Certifying Officer, Division of Trade Adjustment Assistance.

[FR Doc. 03-11282 Filed 5-6-03; 8:45 am]

BILLING CODE 4510-30-P